Presidential Determination No. 2002-10 of March 14, 2002

Designation of Bahrain as a Major Non-Nato Ally

Memorandum for the Secretary of State

Pursuant to the authority vested in me, by section 517 of the Foreign Assistance Act of 1961, as amended (the “Act”), I hereby designate the Kingdom of Bahrain as a major non-NATO ally of the United States for the purposes of the Act and the Arms Export Control Act.

You are authorized and directed to publish this determination in the Federal Register.

B

THE WHITE HOUSE,

Washington, March 14, 2002.

[FR Doc. 02-07102

Filed 03-21-02; 8:45 am]

Billing code 4710-10-M